DEPARTMENT OF EDUCATION

[Docket ID ED-2024-IES-0051]

Privacy Act of 1974; System of Records

AGENCY: Institute of Education Sciences, U.S. Department of Education.

ACTION: Notice of a new system of records.

SUMMARY: In accordance with the Privacy Act of 1974, as amended (Privacy Act), the U.S. Department of Education (Department) publishes this notice of a new system of records titled “Evaluation of Transition Supports for Youth with Disabilities” (18-13-47). This system contains records maintained by the Department and its contractor to conduct the Evaluation of Transition Supports for Youth with Disabilities study (the study). The records in this system will be used to measure the effectiveness of two strategies encompassing transition supports that research has identified as having potential to improve the high school and post-high school outcomes for high school students who have individualized education programs (IEPs) under the Individuals with Disabilities Education Act (IDEA).

DATES: Submit your comments on this notice of a new system of records on or before December 9, 2024.

This new system of records notice, except for the routine uses, will become applicable upon publication in the Federal Register on November 7, 2024, unless it needs to be changed as a result of public comment. The routine uses outlined in the section titled “ROUTINE USES OF RECORDS MAINTAINED IN THE SYSTEM, INCLUDING CATEGORIES OF USERS AND PURPOSES OF SUCH USES” will become effective on the expiration of the 30-day period of public comment on December 9, 2024, unless they need to be changed as a result of public comment. The Department will publish any significant changes to this new system of records notice or routine uses resulting from public comment.

ADDRESSES: Comments must be submitted via the Federal eRulemaking Portal at regulations.gov. However, if you require an accommodation or cannot otherwise submit your comments via regulations.gov, please contact the program contact person listed under FOR FURTHER INFORMATION CONTACT. The Department will not accept comments submitted by fax or by email, or comments submitted after the comment period closes. To ensure that the Department does not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “FAQ”.

Privacy Note: The Department's policy is to make all comments received from members of the public available for public viewing in their entirety on the Federal eRulemaking Portal at www.regulations.gov. Therefore, commenters should be careful to include in their comments only information that they wish to make publicly available.

Assistance to Individuals with Disabilities in Reviewing the Rulemaking Record: On request, we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Teresa Cahalan, SORN coordinator, Institute of Education Sciences, U.S. Department of Education, Potomac Center Plaza, 550 12th Street SW, Room SW, Room 4126, Washington, DC 20202. Telephone: 202-245-7299. Email: IES_SORN@ed.gov.

If you are deaf, hard of hearing, or have a speech disability, please dial 7-1-1 to access telecommunications relay services.

SUPPLEMENTARY INFORMATION: The Department will use the records maintained in this new system to measure the effectiveness of two strategies encompassing transition supports that research has identified as having the potential to improve high school and post-high school outcomes for high school students who have IEPs under the IDEA. This study will allow the Department to measure the effectiveness of providing students instruction to strengthen their goal-setting, planning, and self-advocacy skills and helping them apply these self-determination skills to work toward their post-high school goals.

The records maintained in this system will be used to address the following research questions:

• Is instruction in self-determination skills and how to apply them to transition planning effective in improving the intermediate and post-high school outcomes of students with disabilities with IEPs under the IDEA?

• Is offering individual mentoring along with self-determination skills instruction effective?

• What is the added benefit and cost of providing individual mentoring support?

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Matthew Soldner,
Acting Director, Institute of Education Sciences.

For the reasons discussed in the preamble, the Acting Director of the Institute of Education Sciences, U.S. Department of Education, publishes a a new system of records notice (SORN) to read as follows:

SYSTEM NAME AND NUMBER:

Evaluation of Transition Supports for Youth with Disabilities (18-13-47).

SECURITY CLASSIFICATION:

Unclassified.

SYSTEM LOCATION:

Institute of Education Sciences (IES), U.S. Department of Education, 550 12th Street SW, Washington, DC 20202. (This is the location of the IES Data Center.)

American Institutes for Research (AIR), 1400 Crystal Drive, 10th Floor, Arlington, VA 22202. (This is the location of a Department contractor that collects personally identifiable information (PII) regarding district and school staff, program instructors, and students and their families in participating districts and stores such information until it is uploaded through secure transfer to the IES Data Center.)

SYSTEM MANAGER(S):

Associate Commissioner, Evaluation Division, National Center for Education Evaluation and Regional Assistance, Institute of Education Sciences, U.S. Department of Education, 550 12th Street SW, Washington, DC 20202.

AUTHORITY FOR MAINTENANCE OF THE SYSTEM:

The Evaluation of Transition Supports for Youth with Disabilities study (the study) is authorized by section 664(b)(2)(D)(iii) of the Individuals with Disabilities Education Act (IDEA) (20 U.S.C. 1400 et seq.) and sections 171 and 173 of the Education Sciences Reform Act (Pub. L. 114-95) (20 U.S.C. 9561 and 9563). The collection of Social Security numbers is authorized under Executive Order 9397 (November 22, 1943), as amended by Executive Order 13478 (November 18, 2008).

PURPOSE(S) OF THE SYSTEM:

The Department will use the records maintained in this system to measure the effectiveness of two strategies encompassing transition supports that research has identified as having the potential to improve the high school and post-high school outcomes for high school students who have individualized education programs (IEPs) under the IDEA. This study will allow the Department to gauge the effectiveness of providing students instruction to strengthen their goal-setting, planning, and self-advocacy skills and helping them apply these self-determination skills to work toward their post-school goals, including employment and postsecondary education.

The records maintained in this system will be used to address the following research questions:

• Is instruction in self-determination skills and how to apply them to transition planning effective in improving the intermediate and post-high school outcomes of students with disabilities under the IDEA?

• Is offering individual mentoring along with self-determination skills instruction effective?

• What is the added benefit and cost of providing individual mentoring support?

To evaluate the effectiveness of providing students instruction to strengthen their goal-setting, planning, and self-advocacy skills and helping them apply these self-determination skills to work toward their post-high school goals, the study will randomly assign high school students with IEPs under the IDEA who are two years from expected graduation to receive one of two transition support strategies or to continue with the regular transition supports they receive from their school. Training for program instructors on the study's transition support strategies and students' participation in the strategies will occur over two years, from 2024 through 2026. Data will be collected starting in spring 2024, and student outcomes will be measured through spring 2028.

CATEGORIES OF INDIVIDUALS COVERED BY THE SYSTEM:

This system will maintain records on school district staff from approximately 16 districts, school staff from approximately 100 high schools across the 16 districts, 75 program instructors delivering the two strategies in high schools, and 3,000 high school students and their families.

CATEGORIES OF RECORDS IN THE SYSTEM:

For school district staff, records maintained in this system include, but are not limited to, name, email address, telephone number, and other select information from the district's transition services and programs.

For high school staff supporting students with their education and transition objectives, records maintained in this system include, but are not limited to, name, email address, telephone number, and role supporting students' IEP/transition planning. The system will also maintain records that the school staff provide on students' goals, services, and supports, including those identified in the participating students' IEPs under the IDEA.

For program instructors, records maintained in this system include, but are not limited to, name, email address, telephone number, mailing address, education background, work and professional development/training experiences, and demographic information (such as race, age, ethnicity, and gender). Additionally, the system will also maintain records that the program instructor provides on what program activities they are implementing with students, the resources offered to students, the type of support provided to students and families, their coordination with school staff, and their participation in the study's training.

For families, records maintained in this system include, but are not limited to, names of family members, telephone number, mailing address, email address, and, for families who decline participation, the reasons for not participating.

For students, records maintained in this system include, but are not limited to, name, date of birth, Social Security number, State/local student identification number, demographic information (such as race, age, ethnicity, and gender), school information (such as grade level and school name), free or reduced-price lunch status, special education status, disability type, English learner status, home language, goals, transition support identified in their IEP(s), participation in transition support services, perceptions of the study's instruction to strengthen and apply self-determination skills (such as goal-setting, planning, and self-advocacy) to work toward their post-high school goals, progress in school, graduation/high school completion status, performance on State standardized English language arts and mathematics assessments, levels of self-determination skills the study's instruction focuses on, preparation for postsecondary education and independent living, work experience, enrollment in postsecondary education programs, use of financial aid to support participation in postsecondary education programs, employment, and earnings.

RECORD SOURCE CATEGORIES:

Information in this system will be obtained through student records maintained by the school districts, surveys of students, surveys and interviews completed by families, and forms completed by district and high school staff. Post-secondary enrollment and participation data will be obtained through the National Student Clearinghouse and through administrative records maintained by the Department's Federal Student Aid Office. Financial aid data also will be obtained through administrative records maintained by the Department's Federal Student Aid Office. Vocational Rehabilitative Services data will be obtained through administrative records maintained by the Department's Rehabilitation Services Administration. Employment and earnings data, including unemployment insurance information, will be obtained through the administrative records maintained by the U.S. Department of Health and Human Services' National Directory of New Hires. Records in this system also may be obtained from other persons or entities from whom or from which data is obtained under the routine uses set forth below.

ROUTINE USES OF RECORDS MAINTAINED IN THE SYSTEM, INCLUDING CATEGORIES OF USERS AND THE PURPOSES OF SUCH USES:

The Department may disclose information contained in a record in this system of records under the routine uses listed in this system of records without the consent of the individual if the disclosure is compatible with the purpose(s) for which the record was collected. The Department may make these disclosures on a case-by-case basis or, if the Department has complied with the computer matching requirements of the Privacy Act of 1974, as amended (Privacy Act) (5 U.S.C. 552a), under a computer matching agreement. Any disclosure of PII from a record in this system must also comply with the requirements of section 183 of the Education Sciences Reform Act of 2002 (ESRA) (20 U.S.C. 9573) providing for confidentiality standards that apply to all collections, reporting, and publication of data by IES. Any disclosure of PII from student education records that were obtained from participating agencies and educational agencies or institutions must also comply respectively with the requirements of IDEA's confidentiality of information/privacy provisions (20 U.S.C. 1417(c); 34 CFR 300.611 through 300.626), which protect PII in education records collected, maintained, or used under Part B of the IDEA, and the Family Educational Rights and Privacy Act (FERPA) (20 U.S.C. 1232g; 34 CFR part 99), which protects the privacy of student education records maintained by educational agencies and institutions that receive funds from the Department.

(1) Contract Disclosure. If the Department contracts with an entity for the purpose of performing any function that requires disclosure of records in this system to employees of the contractor, the Department may disclose the records to those employees. As part of such a contract, the Department will require the contractor to agree to maintain safeguards to protect the security and confidentiality of the records in the system. If the Department discloses PII from a student's education record covered by FERPA or the IDEA to the contractor, the contractor also must agree to comply with applicable FERPA and IDEA requirements.

(2) Disclosure for the Purpose of Obtaining Student Participants' Post-Secondary and Employment and Earnings Records to Conduct this Study. The Department may disclose records from this system of records to the National Student Clearinghouse (NSC) and the U.S. Department of Health and Human Services (HHS) in order to obtain student participants' post-secondary, employment, earnings, and unemployment insurance records to conduct this study. The NSC and HHS must agree to safeguards, consistent with section 183(c) of ESRA (20 U.S.C. 9573(c)), to protect the security and confidentiality of the records disclosed from this system.If the Department discloses personally identifiable information from a student's education record covered by FERPA or the IDEA to the NSC and HHS, the NSC and HHS also must agree to comply with applicable FERPA and IDEA requirements.

(3) Research Disclosure. The Department may disclose records to a researcher if the Department determines that the individual or organization to which the disclosure would be made is qualified to carry out specific research related to the functions or purpose(s) of this system of records. The Department may disclose records from this system of records to that researcher solely to carry out that research related to the functions or purpose(s) of this system of records. The researcher must agree to safeguards, consistent with section 183(c) of the ESRA (20 U.S.C. 9573(c)), to protect the security and confidentiality of the records disclosed from this system. If the Department discloses PII from a student's education record covered by FERPA or the IDEA to the researcher, the researcher also must agree to comply with applicable FERPA and IDEA requirements.

POLICIES AND PRACTICES FOR STORAGE OF RECORDS:

The Department maintains secured, password-protected records on the IES Data Center, and the Department's contractor (American Institutes for Research) maintains records for this system on the Department's behalf on secured, password-protected computer systems and in hard copy until uploaded to the IES Data Center. Hard copy records will be kept in locked file cabinets during nonworking hours and work on hard copy records will take place in a single room, except for data entry.

POLICIES AND PRACTICES FOR RETRIEVAL OF RECORDS:

Records in this system are indexed by a unique number assigned to each individual, which can be cross-referenced when needed (such as for data matching) with the separately stored direct identifiers.

POLICIES AND PRACTICES FOR RETENTION AND DISPOSAL OF RECORDS:

The Department has submitted a retention and disposition schedule that is intended to cover the records contained in this system to the National Archives and Records Administration (NARA) for review. The records will not be destroyed until NARA approves said schedule.

ADMINISTRATIVE, TECHNICAL, AND PHYSICAL SAFEGUARDS:

Security protocols for this system of records meet all required security standards. All physical access to the Department's site and to the site of the Department's contractor, where this system of records is also maintained, is controlled and monitored by security personnel. The computer system employed by the Department offers a high degree of resistance to tampering and circumvention with the use of firewalls, encryption, and password protection. This system limits data access to Department and contract staff on a need-to-know basis and controls individual users' ability to access and alter records within the system. The contractor will establish a similar set of procedures at its site to ensure the confidentiality of data. The contractor's systems are required to ensure that PII is in files physically separated from other research data. The contractor will maintain the security of the complete set of all master data files. Access to PII will be strictly controlled. Access to information by contractor staff will be granted on a need-to-know basis, and individual staff's ability to alter records within the systems will be controlled. Security features that protect project data include password-protected accounts that authorize users to use the contractor's systems but to access only specific network directories and network software; user rights and directory and file attributes that limit those who can use particular directories and files and determine how they can use them; and additional security features that the network administrators will establish for projects as needed. The contractor's employees who “maintain” (collect, maintain, use, or disseminate) data in the contractor's systems shall comply with the requirements of the confidentiality standards in section 183 of the ESRA (20 U.S.C. 9573) and applicable provisions in the Privacy Act, IDEA, and FERPA.

RECORD ACCESS PROCEDURES:

If you wish to gain access to a record regarding you in this system of records, you must contact the system manager at the address listed above. Your request must provide necessary particulars of your full name, address, telephone number, and any other identifying information requested by the Department to distinguish between individuals with the same name. Your request must meet the requirements of regulations at 34 CFR 5b.5.

CONTESTING RECORD PROCEDURES:

If you wish to contest the content of a record regarding you, you must contact the system manager at the address listed above. Requests must contain your full name, address, and telephone number, and any other identifying information requested by the Department to distinguish between individuals with the same name. Your request must meet the requirements of the regulations at 34 CFR 5b.7.

NOTIFICATION PROCEDURES:

If you wish to determine whether a record exists regarding you, you must contact the systems manager at the address listed above. Your request must provide necessary particulars, such as your full name, address, telephone number, and any other identifying information requested by the Department while processing the request to distinguish between individuals with the same name. Your request must meet the requirements of regulations at 34 CFR 5b.5.

EXEMPTIONS PROMULGATED FOR THE SYSTEM:

None.

HISTORY:

None.

[FR Doc. 2024-25896 Filed 11-6-24; 8:45 am]

BILLING CODE 4000-01-P